DEPARTMENT OF COMMERCE

International Trade Administration

[A-570-928, A-791-821, A-552-803]

Uncovered Innerspring Units From the People's Republic of China, South Africa, and Socialist Republic of Vietnam: Final Results of the Expedited Sunset Reviews of the Antidumping Duty Orders

AGENCY: Enforcement and Compliance, formerly Import Administration, International Trade Administration, Department of Commerce.

SUMMARY: On November 1, 2013, the Department of Commerce (the Department) published the initiation of the first five-year (sunset) reviews of the antidumping duty orders on uncovered innerspring units from the People's Republic of China (PRC), South Africa, and Socialist Republic of Vietnam (Vietnam) pursuant to section 751(c) of the Tariff Act of 1930 (the Act), as amended.¹ The Department finds that revocation of these antidumping duty orders would be likely to lead to the continuation or recurrence of dumping as indicated in the “Final Results of Sunset Reviews” section of this notice.

¹ See Initiation of Five-Year (“Sunset”) Review, 78 FR 65711 (November 1, 2013) (Notice of Initiation).

DATES: Effective Date: March 10, 2014.

FOR FURTHER INFORMATION CONTACT: Catherine Cartsos or Minoo Hatten, AD/CVD Operations, Office I, Enforcement and Compliance, International Trade Administration, U.S. Department of Commerce, 14th Street and Constitution Avenue NW., Washington, DC 20230; telephone: (202) 482-1757 or (202) 482-1690, respectively.

SUPPLEMENTARY INFORMATION:

Background

The Department received a notice of intent to participate in these sunset reviews from Leggett & Platt, Incorporated (the domestic interested party), within the 15-day period specified in 19 CFR 351.218(d)(1)(i). The domestic interested party claimed interested party status under section 771(9)(C) of the Act as a producer of the domestic like product.

The Department received an adequate substantive response to the Notice of Initiation from the domestic interested party within the 30-day period specified in 19 CFR 351.218(d)(3)(i). The Department received no substantive response from any respondent interested parties. In accordance with section 751(c)(3)(B) of the Act and 19 CFR 351.218(e)(1)(ii)(C)(2), the Department conducted expedited (120-day) sunset reviews of the antidumping duty orders on uncovered innerspring units from the PRC, South Africa, and Vietnam.²

² See Uncovered Innerspring Units from the People's Republic of China: Notice of Antidumping Duty Order, 74 FR 7661 (February 19, 2009). See also Antidumping Duty Order: Uncovered Innerspring Units From South Africa, 73 FR 75390 (December 11, 2008). See also Antidumping Duty Order: Uncovered Innerspring Units From the Socialist Republic of Vietnam, 73 FR 75391 (December 11, 2008).

Scope of the Orders

The products subject to these orders are uncovered innerspring units composed of a series of individual metal springs joined together in sizes corresponding to the sizes of adult mattresses (e.g., twin, twin long, full, full long, queen, California king, and king) and units used in smaller constructions, such as crib and youth mattresses. The complete scope language of these orders is listed in the Issues and Decision Memorandum,³ which is hereby adopted by this notice. The products subject to the orders are currently classifiable under subheading 9404.29.9010 and have also been classified under subheadings 9404.10.0000, 7326.20.0070, 7320.20.5010, or 7320.90.5010 of the Harmonized Tariff Schedule of the United States (HTSUS). On January 11, 2011, the Department included the 9404.29.9005 and 9404.29.9011 HTSUS classification number to the customs case reference file, pursuant to a request by U.S. Customs and Border Protection (CBP). On January 7, 2013, the Department included the 7326.20.0071 HTSUS classification number to the customs case reference file, pursuant to a request by CBP. The HTSUS subheadings are provided for convenience and customs purposes only; the written description of the scope of these orders is dispositive.

³ See Issues and Decision Memorandum from Christian Marsh, Deputy Assistant Secretary for Antidumping and Countervailing Duty Operations, to Paul Piquado, Assistant Secretary for Enforcement and Compliance, dated concurrently with this notice (Issues and Decision Memorandum).

Analysis of Comments Received

All issues raised in these reviews are addressed in the Issues and Decision Memorandum, including the likelihood of continuation or recurrence of dumping in the event of revocation and the magnitude of dumping margins likely to prevail if the orders were revoked. Parties can find a complete discussion of all issues raised in these reviews and the corresponding recommendations in this public memorandum, which is on file electronically via Enforcement and Compliance's Antidumping and Countervailing Duty Centralized Electronic Services System (IA ACCESS). IA ACCESS is available to registered users at http://iaaccess.trade.gov and is available to all parties in the Central Records Unit in Room 7046 of the main Department of Commerce building. In addition, a complete version of the Issues and Decision Memorandum can be accessed directly on the internet at http://enforcement.trade.gov/frn/. The signed Issues and Decision Memorandum and the electronic versions of the Issues and Decision Memorandum are identical in content.

Final Results of Sunset Reviews

The Department determines that revocation of the antidumping duty orders on uncovered innerspring units from the PRC, South Africa, and Vietnam would be likely to lead to the continuation or recurrence of dumping at the following weighted-average percentage margins:

Manufacturers/producers/ exporters | Weighted-average margin (percent)
PRC:
Foshan Jingxin Steel Wire & Spring Co., Ltd | 234.51
Exporters with a separate rate | 164.75
PRC-wide Rate | 234.51
South Africa:
Bedding Component Manufacturers (Pty) Ltd. | 121.39
All others | 121.39
Vietnam:
Vietnam-wide Rate | 116.31

Notification to Interested Parties

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing the final results and notice in accordance with sections 751(c), 752(c), and 777(i)(1) of the Act and 19 CFR 351.221(c)(5)(ii).

Dated: February 28, 2014.
Paul Piquado,
Assistant Secretary for Enforcement and Compliance.

[FR Doc. 2014-05144 Filed 3-7-14; 8:45 am]

BILLING CODE 3510-DS-P